DEPARTMENT OF HEALTH AND HUMAN SERVICES

National Institutes of Health

National Center for Complementary & Alternative Medicine; Notice of Meeting

Pursuant to section 10(d) of the Federal Advisory Committee Act, as amended (5 U.S.C. Appendix 2), notice is hereby given of the Cancer Advisory Panel for Complementary and Alternative Medicine (CAPCAM).

The meeting will be open to the public as indicated below, with attendance limited to space available. Individuals who plan to attend and need special assistance, such as sign language interpretation or other reasonable accommodations, should notify the Contact Person listed below in advance of the meeting.

The meeting will be closed to the public in accordance with the provisions set forth in section 552b(c)(4) Title 5 U.S.C., as amended, for the discussion could disclose confidential trade secrets or commercial property, the disclosure of which would constitute a clearly unwarranted invasion of personal privacy.

Name of Committee: Cancer Advisory Panel for Complementary and Alternative Medicine.

Date: February 25, 2002.

Closed: 8:30 am to 1:00 pm.

Agenda: The agenda will include summaries of RAND Process, IAT, Naltrexone and Homeopathy reports.

Open: 1:00 pm to adjournment.

Agenda: The agenda will include summaries of BCS, RAND Process, NCCAM activities and OCCAM activities and other panel business.

Place: Bethesda Marriott Suites, 6711 Democracy Blvd., Bethesda, MD 20817.

Contact Person: Richard Nahin, Ph.D., Executive Secretary, National Center for Complementary and Alternative Medicine, National Institutes of Health, 6707 Democracy Blvd, Suite 106, Bethesda, MD 20892, 301/496-7801.

The public comments session is scheduled from 1:00 to 1:30 pm. Each speaker will be permitted 5 minutes for their presentation. Interested individuals and representatives of organizations are requested to notify Dr. Richard Nahin, National Center for Complementary and Alternative Medicine, NIH, 6707 Democracy Blvd, Suite 106, Bethesda, Maryland 20892, 301-496-7801, Fax 301-480-3621. Letters of intent of present comments, along with a brief description of the organization represented, should be received no later than 5:00 pm on February 20, 2002. Only one representative of an organization may present oral comments. Any person attending the meeting who does not request an opportunity to speak in advance of the meeting may be considered for oral presentation, if time permits, and at the discretion of the Chairperson. In addition, written comments may be submitted to Dr. Nahin at the address listed above up to ten calendars days (March 11, 2002) following the meeting.

Copies of the meeting agenda and the roster of members will be furnished upon request by Dr. Richard Nahin, Executive Secretary, CAPCAM, National Institutes of Health, 6707 Democracy Blvd, Suite 106, Bethesda, Maryland 20892, 301-496-7801, Fax 301-480-3621. This meeting is being published less than 15 days prior to the meeting due to scheduling conflicts.

Dated: February 13, 2002.
LaVerne Y. Stringfield,
Director, Office of Federal Advisory Committee Policy, NIH.

[FR Doc. 02-4292 Filed 2-21-02; 8:45 am]

BILLING CODE 4140-01-M